DEPARTMENT OF HEALTH AND HUMAN SERVICES

National Institutes of Health

National Institute of Diabetes and Digestive and Kidney Diseases; Amended Notice of Meeting

Notice is hereby given of a change in the meeting of the Diabetes, Endocrinology and Metabolic Diseases B Subcommittee, October 16, 2013, 05:30 p.m. to October 18, 2013, 02:00 p.m., Residence Inn Bethesda, 7335 Wisconsin Avenue, Bethesda, MD 20814, which was published in the Federal Register on September 16, 2013, 78 FR 56906.

The meeting will be held January 12, 2014, 05:30 p.m. to January 14, 2014, 02:00 p.m., Marriott Renaissance Arlington Capital View Hotel, 2800 South Potomac Avenue, Arlington, VA 22202; Open from 05:30 p.m. until 06:00 p.m. on January 12, 2014. The meeting will be closed from January 12, 2014, 06:00 p.m. to January 14, 2014, 02:00 p.m.

Dated: October 29, 2013.
David Clary,
Program Analyst, Office of Federal Advisory Committee Policy.

[FR Doc. 2013-26305 Filed 11-1-13; 8:45 am]

BILLING CODE 4140-01-P